DEPARTMENT OF HOMELAND SECURITY

Federal Emergency Management Agency

[Docket ID: FEMA-2017-0024; OMB No. 1660-0137]

Agency Information Collection Activities: Submission for OMB Review; Comment Request; Emergency Notification System (ENS)

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before October 18, 2017.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Records Management Division, 500 C Street SW., Washington, DC 20472-3100, or email address FEMA-Information-Collections-Management@fema.dhs.gov. Or, Melton Roland, ENS Program Manager, FEMA/ORR, Melton.Roland@fema.dhs.gov, or telephone at 540-665-6152.

SUPPLEMENTARY INFORMATION: This proposed information collection previously published in the Federal Register on June 20, 2017 at 82 FR 28083 with a 60 day public comment period. No comments were received. The purpose of this notice is to notify the public that FEMA will submit the information collection abstracted below to the Office of Management and Budget for review and clearance.

Collection of Information

Title: Emergency Notification System (ENS).

Type of information collection: Extension, without change, of a currently approved information collection.

OMB Number: 1660-0137.

Form Titles and Numbers: None.

Abstract: The ENS contains contact information for FEMA emergency team members, and for certain DHS HQ teams as well as USCIS and FLETC teams. The ENS uses this information to send email, call cell, home, work phones and SMS devices to inform team members they have been activated. Teams include FEMA HQ COOP, Hurricane Liaison Team (HLT), Urban Search & Rescue (US&R), Emergency Response Group (ERG), etc. The system can only be accessed via DHS OneNet.

Affected Public: State, Local or Tribal Government; Federal Government.

Estimated Number of Respondents: 700.

Estimated Total Annual Burden Hours: 500 hours.

Estimated Cost: The estimated annual cost to respondents for the hour burden is $14,410. There are no annual costs to respondents operations and maintenance costs for technical services. There are no annual start-up or capital costs. The cost to the Federal Government is $173,350.96.

Dated: September 13, 2017.
Tammi Hines,
Acting Records Management Program Chief, Mission Support, Federal Emergency Management Agency, Department of Homeland Security.

[FR Doc. 2017-19792 Filed 9-15-17; 8:45 am]

BILLING CODE 9111-23-P